DEPARTMENT OF TRANSPORTATION

Federal Aviation Administration

Notice of Intent To Rule on Application To Impose and Use the Revenue From a Passenger Facility Charge (PFC) at St. Petersburg-Clearwater International Airport, Clearwater, FL

AGENCY: Federal Aviation Administration (FAA), DOT.

ACTION: Notice of intent to rule on application.

SUMMARY: The FAA proposes to rule and invites public comment on the application to impose and use the revenue from a PFC at St. Petersburg-Clearwater International Airport under the provisions of the Aviation Safety and Capacity Expansion Act of 1990 (Title IX of the Omnibus Budget Reconciliation Act of 1990) (Pub. L. 101-508) and part 158 of the Federal Aviation Regulations (14 CFR part 158).

DATES: Comments must be received on or before January 10, 2005.

ADDRESSES: Comments on this application may be mailed or delivered in triplicate to the FAA at the following address: Orlando Airports District Office, 5950 Hazeltine National Drive, Suite 400; Orlando, Florida 32822.

In addition, one copy of any comments submitted to the FAA must be mailed or delivered to Mr. Noah Lagos, Airport Director of the Board of County Commissioners of Pinellas County at the following address: St. Petersburg-Clearwater International Airport, 14700 Terminal Blvd., Suite 221, Clearwater, Florida 33762.

Air carriers and foreign air carriers may submit copies of written comments previously provided to the Pinellas County under section 158.23 of part 158.

FOR FURTHER INFORMATION CONTACT: Mr. Vernon P. Rupinta, Program Manager, Orlando Airports District Office, 5950 Hazeltine National Drive, Suite 400; Orlando, Florida 32822, (407) 812-6331, Extension 124. The application may be reviewed in person at this same location.

SUPPLEMENTARY INFORMATION: The FAA proposes to rule and invites public comment on the application to impose and use the revenue from a PFC at St. Petersburg-Clearwater International Airport under the provisions of the Aviation Safety and Capacity Expansion Act of 1990 (Title IX of the Omnibus Budget Reconciliation Act of 1990) (Pub. L. 101-508) and part 158 of the Federal aviation Regulations (14 CFR part 158).

On December 3, 2004, the FAA determined that the application to impose and use the revenue from a PFC submitted by Board of County Commissioners of Pinellas County was substantially complete within the requirement of section 158.25 of part 158. The FAA will approve or disapprove the application, in whole or in part, no later than February 16, 2005.

The following is a brief overview of the application.

PFC Application No.: 05-01-C-00-PIE.

Level of the proposed PFC: $3.00.

Proposed charge effective date: April 1, 2005.

Proposed charge expiration date: October 1, 2007.

Total estimated net PFC revenue: $3,357,639.

Brief description of proposed project(s): Overlay of Terminal Ramp and Taxiways A, C, & D; Water Rescue Craft Acquisition & Firehouse Expansion; Airfield Guidance Signs Installation; Airport & Airfield Lighting Control Panel Relocation; 107.14 Security Access System Installation; Terminal Building Expansion & Renovation (Phases 1 & 2); Taxiway T Relocation; Runway 17-35 Lighting Rehabilitation (Plans and Specifications—Phase 1 & 2); Baggage Claims Expansion (Phase 1); Security Fence Improvement; Runway 17-35 Marking; Runway 17L-35R Environmental Assessment Study; 2003 Master Plan Update, Stormwater Plan, & Benefit-Cost Analysis for Runway Extension; Runway 17L-35R Threshold Relocation; Land Acquisition—Runway 35R; Security Fencing & Enhancements; Runway 17L-35R Rehabilitation; Terminal Apron Rehabilitation, ARFF Fire Trucks, Rescue Boat, and Airport Sweeper; Additional Environmental Assessment & Pre-Permitting Runway 17L-35R Extension; Runway 17L-35R Extension/Safety Areas & Related Land Acquisition; Taxiway M Lighting Rehabilitation; Security Enhancements; Environmental Assessment & Benefit Cost Analysis for Parallel General Aviation Runway; Terminal Expansion—Baggage Processing Area; PFC Application No. 1 Development and PFC Audits.

Class or classes of air carriers which the public agency has requested not be required to collect PFCs: Air Taxi/Commercial Operator (ATCO) Filing FAA Form 1800-31.

Any person may inspect the application in person at the FAA office listed above under FOR FURTHER INFORMATION CONTACT.

In addition, any person may, upon request, inspect the application, notice and other documents germane to the application in person at the Board of County Commissioners of Pinellas County.

Issued in Orlando, Florida on December 3, 2004.
W. Dean Stringer,
Manager, Orlando Airports District Office, Southern Region.

[FR Doc. 04-27095 Filed 12-9-04; 8:45 am]

BILLING CODE 4910-13-M